DEPARTMENT OF AGRICULTURE

Rural Housing Service

Notice of Funds Availability for Section 533 Housing Preservation Grants for Fiscal Year 2014

AGENCY: Rural Housing Service, USDA.

ACTION: Notice.

SUMMARY: This Notice announces that the Rural Housing Service (“RHS'') is soliciting competitive applications under its Housing Preservation Grant (HPG) program pursuant to 7 CFR part 1944, subpart N, for Fiscal Year (FY) 2014. The Consolidated Appropriations Act of 2014, Public Law 113-76 (January 17, 2014) appropriated funding in FY 2014 for grants made by RHS for low- and very low-income housing repair and rural housing preservation, as authorized by 42 U.S.C. 1474, and 1490m. The commitment of program dollars will be made in the order qualified applications are ranked under this notice.

DATES: If submitting a paper pre-application, the closing deadline for receipt of all applications in response to this Notice is 5:00 p.m., local time for each Rural Development State Office on July 28, 2014. The application should be submitted to the Rural Development State Office where the project will be located. If submitting the pre-application in electronic format, the closing deadline for receipt is 5:00 p.m. Eastern Daylight Time on July 28, 2014. RHS will not consider any pre-application that is received after the closing deadline. Applicants intending to mail pre-applications must provide sufficient time to permit delivery on or before the closing deadline. Acceptance by the United States Postal Service or private mailer does not constitute delivery. Facsimile (FAX) and postage due applications will not be accepted.

ADDRESSES: Pre-applications can be sent to the State Office addresses. Please use the Web link provided, http://www.rurdev.usda.gov/StateOfficeAddresses.html.

FOR FURTHER INFORMATION CONTACT: For further information, applicants may contact Bonnie Edwards-Jackson, Finance and Loan Analyst, Multi-Family Housing Preservation and Direct Loan Division, USDA Rural Development, STOP 0781, 1400 Independence Avenue SW., Washington, DC 20250-0781, telephone (202) 690-0759 (voice) (this is not a toll free number) or (800) 877-8339 (TDD-Federal Information Relay Service) or via email at, Bonnie.Edwards@wdc.usda.gov.

SUPPLEMENTARY INFORMATION:

A. Program Description

The HPG program is a grant program which provides qualified public agencies, private non-profit organizations including, but not limited to, faith-based and community organizations, and other eligible entities, grant funds to assist low- and very low-income homeowners in repairing and rehabilitating their homes in rural areas. In addition, the HPG program assists rental property owners and cooperative housing complexes in rural areas in repairing and rehabilitating their units if they agree to make such units available to low- and very low-income persons.

B. Federal Award Information

The funding instrument for the HPG Program will be a grant agreement. The term of the grant can vary from one to two years, depending on available funds and demand. No maximum or minimum grant levels have been established at the national level. You should contact the Rural Development State Office where the project will be located to determine the state allocation.

For Fiscal Year 2014, $3,905,553.50 is available for the HPG Program. Rural Economic Area Partnership Zones and other funds will be distributed under a formula allocation to states pursuant to 7 CFR part 1940, subpart L, “Methodology and Formulas for Allocation of Loan and Grant Program Funds.” Decisions on funding will be based on pre-application scores. Anyone interested in submitting an application for funding under this program is encouraged to consult the Rural Development Web site periodically for updated information regarding the status of funding authorized for this program.

C. Eligibility Information

1. Eligible Applicants

7 CFR part 1944, subpart N provides details on what information must be contained in the pre-application package. Entities wishing to apply for assistance should contact the Rural Development State Office where the project will be located to receive further information, the State allocation of funds, and copies of the pre-application package. Eligible entities for these competitively awarded grants include state and local governments, non-profit corporations including, but not be limited to faith-based and community organizations, Federally recognized Indian tribes, and consortia of eligible entities.

Pursuant to 7 CFR 1944.674, federally recognized Indian tribes are exempt from the requirement to consult with local leaders, including the requirement of announcing the availability of its statement of activities for review in a newspaper.

2. Cost Sharing or Matching

Pursuant to 7 CFR 1944.652, grantees are expected to coordinate and leverage funding for repair and rehabilitation activities, as well as replacement housing, with housing and community development organizations or activities operating in the same geographic area. While HPG funds may be leveraged with other resources, it is not a requirement that the HPG applicant do so as the HPG applicant would not be denied an award of HPG funds if all other project selection criteria have been met.

D. Application and Submission Information

1. Address To Request Application Package

Pre-application packages can be requested from the State Offices. Please use the Web link provided, http://www.rurdev.usda.gov/StateOfficeAddresses.html.

2. Content and Form of Application Submission

All pre-applications must meet the requirements of 7 CFR part 1944, subpart N, as well as comply with the provisions of this Notice. Pre-applications can be submitted either electronically using the Section 533 pre-application form as found at http://www.rurdev.usda.gov/HAD-HPG_Grants.html or by hard copy to the appropriate Rural Development State Office where the project will be located. A hard-copy of the electronic pre-application form is included with this Notice. Note: Submission of the electronic Section 533 pre-application form does not constitute submission of the entire pre-application package which requires additional forms and supporting documentation as listed in Section E of this Notice. Although applicants are encouraged to submit the pre-application form electronically, the complete package in its entirety must still be submitted to the local Rural Development State Office where the project will be located.

The Department of Agriculture (USDA) is participating as a partner in the Government-wide Grants.gov site. Electronic applications must be submitted through the Grants.gov Web site at: http://www.grants.gov, following the instructions found on the Web site. Please be mindful that the deadline for the application for electronic format differs from the deadline for paper format. The electronic format deadline will be based on Eastern Daylight Time. The paper format deadline is local time for each Rural Development State Office.

In addition to the electronic application at the http://www.grants.gov Web site, all applicants must complete and submit the Fiscal Year 2014 pre-application for Section 533 HPG, a copy of which is included with this Notice. Applicants are encouraged to submit this pre-application form electronically by accessing the Web site: http://www.rurdev.usda.gov/HAD-HPG_Grants.html and clicking on the link for “Fiscal Year 2014 Pre-application for Section 533 Housing Preservation Grants (HPG).”

Applicants are encouraged but not required, to also provide an electronic copy of all hard copy forms and documents submitted in the pre-application/application package as requested by this Notice. The forms and documents must be submitted as read-only Adobe Acrobat PDF files on an electronic media such as CDs, DVDs or USB drives. For each electronic device that you submit, you must include a Table of Contents listing all of the documents and forms on that device. The electronic medium must be submitted to the local Rural Development State Office where the project will be located.

Please Note: If you receive a loan or grant award under this Notice, USDA reserves the right to post all information that is not protected by the Privacy Act submitted as part of the pre-application/application package on a public Web site with free and open access to any member of the public.

3. Dun and Bradstreet Universal Numbering System (DUNS) and System for Award Management

Please note that all applicants must obtain a Dun and Bradstreet Data Universal Numbering System (DUNS) number and register, and maintain such registration, in the Central Contractor Registration (CCR) prior to submitting a pre-application pursuant to 2 CFR part 25. As required by the Office of Management and Budget (OMB), all grant applicants must provide a DUNS number when applying for Federal grants, on or after October 1, 2003. Organizations can receive a DUNS number at no cost by calling the dedicated toll-free DUNS number request line at (866) 705-5711 or by accessing http://www.dnb.com/us/. Additional information concerning this requirement is provided in a policy directive issued by OMB and published in the Federal Register on June 27, 2003 (68 FR 38402-38405). Similarly, applicants may register for the CCR at https://www.uscontractorregistration.com/ or by calling (877) 252-2700.

In addition, an entity applicant must maintain registration of the CCR database at all times during which it has an active Federal award or an application or plan of construction by the Agency. Similarly all recipients of Federal Financial assistance are required to report information about first-tier subawards and executive compensation in accordance with 2 CFR part 170. So long as an entity applicant does not have exception under 2 CFR 170.110(b), the applicant must have necessary processes and systems in place to comply with the reporting requirements should the applicant receive funding; see 2 CFR 170.200(b).

4. Submission Dates and Times

Hard copy pre-applications that are submitted to a Rural Development State Office will be date and time stamped to evidence timely or untimely receipt, and upon request, Rural Development will provide the applicant with a written acknowledgement of receipt. A list of Rural Development State Office contacts may be found in the Section VIII, Agency Contacts, of this Notice. Incomplete pre-applications will be returned to the applicant. No pre-application will be accepted after the closing deadline in the “Dates” section of this notice unless that date and time is extended by a Notice published in the Federal Register.

5. Intergovernmental Review

The HPG Program is subject to the provisions of Executive Order 12372, which requires intergovernmental consultation with State and local officials.

6. Funding Restrictions

The HPG Program funds are to be utilized only for their original award purpose. HPG Program grant funds cannot be transferred to fund other HPG projects. In instances whereby HPG Program funds cannot be used for their original award purpose, the unused funds will be refunded to the United States Department of the Treasury.

E. Application Review Information

1. Criteria

In accordance with 7 CFR 1944.679 applicants and proposed projects must meet the following criteria:

(a) Provide a financially feasible program of housing preservation assistance. “Financially feasible” is defined as proposed assistance which will be affordable to the intended recipient or result in affordable housing for very low- and low-income persons.

(b) Serve eligible rural areas with a concentration of substandard housing for households with very low- or low-income.

(c) Be an eligible applicant as defined in 7 CFR 1944.658.

(d) Meet the requirements of consultation and public comment in accordance with 7 CFR 1944.674.

(e) Submit a complete pre-application as outlined in 7 CFR 1944.676.

2. Review and Selection Process

Unless otherwise noted herein, applicants wishing to apply for assistance must make their statement of activities available to the public for comment. The applicant(s) must announce the availability of its statement of activities for review in a newspaper of general circulation in the project area and allow at least 15 days for public comment. The start of this 15-day period must occur no later than 16 days prior to the last day for acceptance of pre-applications by Rural Development.

All applications for Section 533 funds must be filed electronically or with the appropriate Rural Development State Office and must meet the requirements of this Notice and 7 CFR part 1944, subpart N. Applicants whose pre-applications are determined not eligible and/or not meeting the selection criteria will be notified by the Rural Development State Office. All adverse determinations are appealable pursuant to 7 CFR part 11. Instructions on the appeal process will be provided at the time the applicant is notified of the adverse decision.

If submitting a paper application, applicants will file an original and two copies of Standard Form (SF) 424, “Application for Federal Assistance,” and supporting information with the appropriate Rural Development State Office. A pre-application package, including SF-424, is available in any Rural Development State Office. In addition, the pre-application form included with this Notice must be submitted either electronically or in hard copy form with all supporting documentation.

All pre-applications shall be accompanied by the following information which Rural Development will use to determine the applicant's eligibility to undertake the HPG program and to evaluate the pre-application under the project selection criteria of 7 CFR 1944.679. Please note that references to private non-profit organizations include, but are not limited to faith and community-based organizations. The information to be submitted with the pre-application includes:

(a) A statement of activities proposed by the applicant for its HPG program as appropriate to the type of assistance the applicant is proposing, including:

(1) A complete discussion of the type of and conditions for financial assistance for housing preservation, including whether the request for assistance is for a homeowner assistance program, a rental property assistance program, or a cooperative assistance program;

(2) The process for selecting recipients for HPG assistance, determining housing preservation needs of the dwelling, performing the necessary work, and monitoring/inspecting work performed;

(3) A description of the process for identifying potential environmental impacts in accordance with 7 CFR 1944.672, and the provisions for compliance with Stipulation I, A-G of the Programmatic Memorandum of Agreement, also known as PMOA, (RD Instruction 2000-FF, available in any Rural Development State Office or at http://www.rurdev.usda.gov/SupportDocuments/2000ff.pdf) in accordance with 7 CFR 1944.673(b);

(4) The development standard(s) the applicant will use for the housing preservation work; and, if the applicant will use the Rural Development standards for existing dwellings, the evidence of its acceptance by the jurisdiction where the grant will be implemented;

(5) The time schedule for completing the program;

(6) The staffing required to complete the program;

(7) The estimated number of very low- and low-income minority and non-minority persons the grantee will assist with HPG funds; and, if a rental property or cooperative assistance program, the number of units and the term of restrictive covenants on their use for very low- and low-income persons;

(8) The geographical area(s) to be served by the HPG program;

(9) The annual estimated budget for the program period based on the financial needs to accomplish the objectives outlined in the proposal. The budget should include proposed direct and indirect administrative costs, such as personnel, fringe benefits, travel, equipment, supplies, contracts, and other cost categories, detailing those costs for which the grantee proposes to use the HPG grant separately from non-HPG resources, if any. The applicant budget should also include a schedule (with amounts) of how the applicant proposes to draw HPG grant funds, i.e., monthly, quarterly, lump sum for program activities, etc.;

(10) A copy of an indirect cost proposal as required in 7 CFR parts 3015, 3016, and 3019, as applicable, when the applicant has another source of Federal funding in addition to the Rural Development HPG program;

(11) A brief description of the accounting system to be used;

(12) The method of evaluation to be used by the applicant to determine the effectiveness of its program which encompasses the requirements for quarterly reports to Rural Development in accordance with 7 CFR 1944.683(b), frequency of audits according to 7 CFR 1944.688(e), 7 CFR parts 3015 and 3016, and the monitoring plan for rental properties and cooperatives (when applicable) according to 7 CFR 1944.689;

(13) The source and estimated amount of other financial resources to be obtained and used by the applicant for both HPG activities and housing development and/or supporting activities;

(14) The use of program income, if any, and the tracking system used for monitoring same;

(15) The applicant's plan for disposition of any security instruments held by them as a result of its HPG activities in the event of its loss of legal status;

(16) Any other information necessary to explain the proposed HPG program; and

(17) The outreach efforts outlined in 7 CFR 1944.671(b).

(b) Complete information about the applicant's experience and capacity to carry out the objectives of the proposed HPG program.

(c) Evidence of the applicant's legal existence, a copy of, or an accurate reference to, the specific provisions of State (or Tribal) law under which the applicant is organized; a certified copy of the applicant's Articles of Incorporation and Bylaws or other evidence of corporate existence; certificate of incorporation for other than applicants that are not public bodies; evidence of good standing from the State (or Tribe) when the corporation has been in existence 1 year or more; and the names and addresses of the applicant's members, directors and officers. If other organizations are members of the applicant-organization, or the applicant is a consortium, pre-applications should be accompanied by the names, addresses, and principal purpose of the other organizations. If the applicant is a consortium, documentation showing compliance with paragraph (4)(ii) under the definition of “organization” in 7 CFR 1944.656 must also be included.

(d) For a private non-profit entity, the most recently audited statement and a current financial statement dated and signed by an authorized officer of the entity showing the amounts and specific nature of assets and liabilities together with information on the repayment schedule and status of any debt(s) owed by the applicant.

(e) A brief narrative statement which includes information about the area to be served and the need for improved housing (including both percentage and the actual number of both very low-income and low-income minority households and substandard housing), the need for the type of housing preservation assistance being proposed, the anticipated use of HPG resources for historic properties, the method of evaluation to be used by the applicant in determining the effectiveness of its efforts.

(f) A statement containing the component for alleviating any overcrowding as defined by 7 CFR 1944.656.

(g) Applicant must submit an original and one copy of Form RD 1940-20, “Request for Environmental Information,” prepared in accordance with Exhibit F-1 of RD Instruction 1944-N (available in any Rural Development State Office or at http://forms.sc.egov.usda.gov/efcommon/eFileServices/eForms/RD1940-20.PDF).

(h) Applicant must also submit a description of its process for:

(1) Identifying and rehabilitating properties listed on, or eligible for listing on, the National Register of Historic Places;

(2) Identifying properties that are located in a floodplain or wetland;

(3) Identifying properties located within the Coastal Barrier Resources System; and

(4) Coordinating with other public and private organizations and programs that provide assistance in the rehabilitation of historic properties (Stipulation I, D, of the PMOA, RD Instruction 2000-FF), available in any Rural Development State Office or at: http://www.rurdev.usda.gov/SupportDocuments/2000ff.pdf.

(i) The applicant must also submit evidence of the State Historic Preservation Office's (SHPO), or where appropriate the Tribal Historic Preservation Office's (THPO) concurrence in the proposal, or in the event of nonconcurrence, a copy of SHPO's or THPO's comments together with evidence that the applicant has received the Advisory Council on Historic Preservation's (Council) advice as to how the disagreement might be resolved, and a copy of any advice provided by the Council.

(j) The applicant must submit written statements and related correspondence reflecting compliance with 7 CFR 1944.674(a) and (c) regarding consultation with local government leaders in the preparation of its program and the consultation with local and state government pursuant to the provisions of Executive Order 12372.

(k) The applicant is to make its statement of activities available to the public for comment prior to submission to Rural Development pursuant to 7 CFR 1944.674(b). The application must contain a description of how the comments (if any were received) were addressed.

(l) The applicant must submit an original and one copy of Form RD 400-1, “Equal Opportunity Agreement,” and Form RD 400-4, “Assurance Agreement,” in accordance with 7 CFR 1944.676. These forms can be obtained at any state office or at http://forms.sc.egov.usda.gov/efcommon/eFileServices/eForms/RD400-1.PDF and http://forms.sc.egov.usda.gov/efcommon/eFileServices/eForms/RD400-4.PDF.

Applicants should review 7 CFR part 1944, subpart N for a comprehensive list of all application requirements.

3. Scoring

For applicants meeting all of the requirements listed above, the Rural Development State Offices will use weighted criteria in accordance with 7 CFR part 1944, subpart N to select the grant recipients. Each pre-application and its accompanying statement of activities will be evaluated and, based solely on the information contained in the pre-application; the applicant's proposal will be numerically rated on each selection criteria within the point range provided. The highest-ranking applicant(s) will be selected based on allocation of funds available to the State.

(a) Points that are awarded based on the percentage of very low-income persons that the applicant proposes to assist, using the following scale:

(1) | More than 80% | 20 points.
(2) | 61% to 80% | 15 points.
(3) | 41% to 60% | 10 points.
(4) | 20% to 40% | 5 points.
(5) | Less than 20% | 0 points.

(b) Whether the applicant's proposal is expected to result in the following percentage of HPG fund use (excluding administrative costs) in comparison to the total cost of unit preservation. This percentage reflects maximum repair or rehabilitation results with the least possible HPG funds due to leveraging, innovative financial assistance, owner's contribution or other specified approaches. Points are awarded based on the following percentage of HPG funds (excluding administrative costs) to total funds:

(1) | 50% or less | 20 points.
(2) | 51% to 65% | 15 points.
(3) | 66% to 80% | 10 points.
(4) | 81% to 95% | 5 points.
(5) | 96% to 100% | 0 points.

(c) Whether the applicant has demonstrated its administrative capacity in assisting very low- and low-income persons to obtain adequate housing based on the following (30 points maximum):

(1) The organization or a member of its staff has at least one or more years experience successfully managing and operating a rehabilitation or weatherization type program: 10 points.

(2) The organization or a member of its staff has at least one or more years experience successfully managing and operating a program assisting very low- and low-income persons obtain housing assistance: 10 points.

(3) If the organization has administered grant programs, there are no outstanding or unresolved audit or investigative findings which might impair carrying out the proposal: 10 points.

(d) Whether the proposed program will be undertaken entirely in a rural area defined by section 520 of the Housing Act of 1949, as amended (42 U.S.C. 1490) as, “any open country, or any place, town, village, or city which is not (except in the cases of Pajaro, in the State of California, and Guadalupe, in the State of Arizona) part of or associated with an urban area and which (1) has a population not in excess of 2,500 inhabitants, or (2) has a population in excess of 2,500 but not in excess of 10,000 if it is rural in character, or (3) has a population in excess of 10,000 but not in excess of 20,000, and (A) is not contained within a standard metropolitan statistical area, and (B) has a serious lack of mortgage credit for lower and moderate-income families, as determined by the Secretary and the Secretary of Housing and Urban Development. For purposes of this [Notice], any area classified as `rural' or a `rural area' prior to October 1, 1990, and determined not to be `rural' or a `rural area' as a result of data received from or after the 1990, 2000, or 2010 decennial census, and any area deemed to be a `rural area' for purposes of this subchapter under any other provision of law at any time during the period beginning January 1, 2000, and ending December 31, 2010, shall continue to be so classified until the receipt of data from the decennial census in the year 2020, if such area has a population in excess in 10,000 but not in excess of 35,000, is rural in character, and has a serious lack of mortgage credit for lower and moderate-income families. Notwithstanding any other provision of this [Notice], the city of Plainview, Texas, shall be considered a rural area for purposes of this [Notice], and the city of Altus, Oklahoma, shall be considered a rural area for purposes of this [Notice] until the receipt of data from the decennial census in the year 2000”: 10 points.

(e) Whether the program will use less than 20 percent of HPG funds for administration purposes:

(1) | More than 20% | Not eligible.
(2) | 20% | 0 points.
(3) | 19% | 1 point.
(4) | 18% | 2 points.
(5) | 17% | 3 points.
(6) | 16% | 4 points.
(7) | 15% or less | 5 points.

(f) Whether the proposed program contains a component for alleviating overcrowding as defined in 7 CFR 1944.656: 5 points.

(g) In the event more than one pre-application receives the same amount of points, those pre-applications will then be ranked based on the actual percentage of very-low income persons that the applicant proposes to assist. Further, in the event that preapplications are still tied, then those preapplications still tied will be ranked based on the percentage of HPG fund use (low to high). Further, for applications where assistance to rental properties or cooperatives is proposed, those still tied will be further ranked based on the number of years the units are available for occupancy under the program (a minimum of five years is required). For these purposes, ranking will be based from most to least number of years.

Finally, if there is still a tie, then a lottery system will be used. After the award selections are made, all applicants will be notified of the status of their applications by mail.

F. Federal Award Administration Information

1. Federal Award Notices

The Agency will notify, in writing, applicants whose pre-applications have been selected for funding. If the Agency determines it is unable to select the application for funding, the applicant will be so informed in writing. Such notification will include the reasons the applicant was not selected.

2. Administrative and National Policy Requirements

The Agency will advise applicants, whose pre-applications did not meet eligibility and/or selection criteria, of their review rights or appeal rights in accordance with 7 CFR 1944.682.

3. Reporting

Reporting requirements can be found in the Grant Agreement.

G. Federal Awarding Agency Contacts

1. Points of Contacts

Applicants must contact the Rural Development State Office serving the state in which they desire to submit an application to receive further information and copies of the application package. Rural Development will date and time stamp incoming applications to evidence timely or untimely receipt, and, upon request, will provide the applicant with a written acknowledgment of receipt. A listing of Rural Development State Offices, their addresses, telephone numbers, and persons to contact follows:

Note: Telephone numbers listed are not toll-free.

Alabama State Office, Suite 601, Sterling Centre, 4121 Carmichael Road, Montgomery, Alabama 36106-3683, (334) 279-3456, TDD (800) 877-8339, Melinda George

Alaska State Office, 800 West Evergreen, Suite 201, Palmer, Alaska 99645, (907) 761-7725, TDD (907) 761-7786, Cathy Milazzo

Arizona State Office, Phoenix Courthouse and Federal Building, 230 North First Avenue, Suite 206, Phoenix, Arizona 85003-1706, (602) 280-8768, TDD (602) 280-8705, Justin Hilary

Arkansas State Office, 700 West Capitol Avenue, Room 3416, Little Rock, Arkansas 72201-3225, (501) 301-3258, TDD (501) 301-3279, Clinton King

California State Office, 430 G Street, #4169, Davis, California 95616-4169, (530) 885-6505, TDD (530) 792-5848, Debra Moretton

Colorado State Office, Denver Federal Center, Building 56, Room 2300, P. O. Box 25426, Denver, Colorado 80225-0426, (720) 544-2923, TDD (800) 659-3656, Mary Summerfield

Connecticut, Served by Massachusetts State Office, Delaware and Maryland State Office, 1221 College Park Drive, Suite 200, Dover, Delaware 19904, (302) 857-3615, TDD (302) 857-3585, Tonya D. Craven

Florida and Virgin Islands State Office, 4440 NW. 25th Place, Gainesville, Florida 32606-6563, (352) 338-3438, TDD (352) 338-3499, Theresa Purnell

Georgia State Office, Stephens Federal Building, 355 East Hancock Avenue, Athens, Georgia 30601-2768, (706) 546-2164, TDD (706) 546-2034, Revonda Pearson and Jennifer Daughtery

Hawaii State Office, (Services all Hawaii, American Samoa, Guam, and Western Pacific), Room 311, Federal Building, 154 Waianuenue Avenue, Hilo, Hawaii 96720, (808) 933-8303, TDD (808) 933-8321, Nathan Riedel

Idaho State Office, Suite A1, 9173 West Barnes Drive, Boise, Idaho 83709, (208) 327-6466, TDD (800) 877-8339, Yvette Caraveau

Illinois State Office, 2118 West Park Court, Suite A, Champaign, Illinois 61821-2986, (217) 403-6225, TDD (217) 403-6240, Brenda Barr

Indiana State Office, 5975 Lakeside Boulevard, Indianapolis, Indiana 46278, (317) 290-3100, ext. 423, TDD (317) 295-5799, Michael Boards

Iowa State Office, 210 Walnut Street Room 873, Des Moines, Iowa 50309, (515) 284-4487, TDD (515) 284-4858, Mary Beth Juergens

Kansas State Office, 1303 SW First American Place, Suite 100, Topeka, Kansas 66604-4040, (785) 271-2700, TDD (785) 271-2767, Mike Resnik

Kentucky State Office, 771 Corporate Drive, Suite 200, Lexington, Kentucky 40503, (859) 224-7357, TDD (859) 224-7422, Paul Higgins

Louisiana State Office, 3727 Government Street, Alexandria, Louisiana 71302, (318) 473-7962, TDD (318) 473-7655, Yvonne R. Emerson

Maine State Office, Post Office Box 405, Bangor, Maine 04402-0405, (207) 990-9110, TDD (207) 942-7331, Bob Nadeau

Maryland, Served by Delaware State Office

Massachusetts, Connecticut, & Rhode Island State Office, 451 West Street Suite 2, Amherst, Massachusetts 01002, (413) 253-4312, TDD (413) 253-4590, Julie Hanieski

Michigan State Office, 3001 Coolidge Road, Suite 200, East Lansing, Michigan 48823, (517) 324-5194, TDD (517) 324-5169, Julie Putnam

Minnesota State Office, 375 Jackson Street Building, Suite 410, St. Paul, Minnesota 55125, (763) 689-3354 x 4, TDD (651) 602-7830, Linda Swanson

Mississippi State Office, Federal Building, Suite 831, 100 West Capitol Street, Jackson, Mississippi 39269, (601) 965-4325, TDD (601) 965-5717, Darnella Smith-Murray

Missouri State Office, 601 Business Loop 70 West, Parkade Center, Suite 235, Columbia, Missouri 65203, (573) 876-0976, TDD (573) 876-9480, Nancy Long

Montana State Office, 2229 Boot Hill Court, Bozeman, Montana 59715, (406) 585-2559, TDD (800) 253-4091, Sandi Messenger

Nebraska State Office, Federal Building, Suite 308, 100 Centennial Mall North, Lincoln, Nebraska 68508, (402) 437-5035, TDD (402) 437-5093, Sharon Kluck

Nevada State Office, 1390 South Curry Street, Carson City, Nevada 89703-9910, (775) 887-1222, ext. 106, TDD 711 Relay (775) 887-1222, Mona Sargent

New Hampshire State Office, Concord Center, 10 Ferry Street, Suite 218, Concord, New Hampshire 03301, (603) 223-6049, TDD (603) 223-6083, Daphne Fenney

New Jersey State Office, 5th Floor North, Suite 500, 8000 Midlantic Drive, Mt. Laurel, New Jersey 08054, (856) 787-7773, TDD (856) 787-7784, Derrick S. Waltz

New Mexico State Office, 6200 Jefferson Street, NE., Room 255, Albuquerque, New Mexico 87109, (505) 761-4940, TDD (800) 877-8339, Cynthia Jackson

New York State Office, The Galleries of Syracuse, 441 South Salina Street, Suite 357 5th Floor, Syracuse, New York 13202, (315) 477-6418, TDD (315) 477-6447, Erin Farley

North Carolina State Office, 4405 Bland Road, Suite 260, Raleigh, North Carolina 27609, (919) 873-2062, TDD 711 Relay (919) 873-2061, Rebecca Dillard

North Dakota State Office, 2493 4th Avenue West, Room B, Dickinson, North Dakota 58601, (701) 225-9168, ext. 4, TDD (800) 366-6888, Steve Lervik

Ohio State Office, Federal Building, Room 507, 200 North High Street, Columbus, Ohio 43215-2477, (614) 255-2409, TDD (800) 877-8339, Cathy Simmons

Oklahoma State Office, 100 USDA, Suite 108, Stillwater, Oklahoma 74074-2654, (580) 237-4321, TDD (405) 742-1007, Lesley Worthan

Oregon State Office, 1201 NE Lloyd Boulevard, Suite 801, Portland, Oregon 97232-1274, (503) 414-3353, TDD (503)414-3387, Rod Hansen

Pennsylvania State Office, One Credit Union Place, Suite 330, Harrisburg, Pennsylvania 17110-2996, (717) 237-2282, TDD (717) 237-2261, Martha Hanson

Puerto Rico State Office, IBM Building, Suite 601, Munoz Rivera Ave. #654, San Juan, Puerto Rico 00918, (787) 766-5095, ext. 163, TDD (787) 766-5332, Raul Cepeda

Rhode Island, Served by Massachusetts State Office, South Carolina State Office, Strom Thurmond Federal Building, 1835 Assembly Street, Room 1007, Columbia, South Carolina 29201, (803) 253-3244, TDD (803) 765-5697, Rosemary Hickman

South Dakota State Office, Federal Building, Room 210, 200 Fourth Street, SW, Huron, South Dakota 57350, (605) 352-1132, TDD (605) 352-1147, Linda Weber

Tennessee State Office, Suite 300, 3322 West End Avenue, Nashville, Tennessee 37203-1084, (615) 783-1300, TDD (615) 783-1397, Abby Boggs

Texas State Office, Federal Building, Suite 102, 101 South Main, Temple, Texas 76501, (254) 742-9772, TDD (800) 877-8339, Ana Placencia

Utah State Office, Wallace F. Bennett Federal Building, 125 South State Street, Room 301, Salt Lake City, Utah 84138, (801) 524-4308, TDD 711 Relay (801) 524-4308, Janice Kocher

Vermont State Office, City Center, 3rd Floor, 89 Main Street, Montpelier, Vermont 05602, (802) 828-6028, TDD (802) 223-6365, Tammy Surprise

Virgin Islands, Served by Florida State Office

Virginia State Office, Culpeper Building, Suite 238, 1606 Santa Rosa Road, Richmond, Virginia 23229, (804) 287-1596, TDD (804) 287-1753, CJ Michels

Washington State Office, 1835 Black Lake Boulevard, Suite B, Olympia, Washington 98512, (360) 704-7706, TDD (800) 833-6384, Bill Kirkwood

Western Pacific Territories, Served by Hawaii State Office

West Virginia, 530 Freedom Road, Ripley, West Virginia 25271-9794, (304) 372-3441, ext. 105, TDD (304) 284-4836, Penny Thaxton

Wisconsin State Office, 4949 Kirschling Court, Stevens Point, Wisconsin 54481, (715) 345-7620, TDD (715) 345-7614, Dave Schwobe or Julie Czappa

Wyoming State Office, Post Office Box 82601, Casper, Wyoming 82602-5006, (307) 233-6733, TDD (800) 877-9965, Laura Koenig

Non-Discrimination Statement

The U.S. Department of Agriculture (USDA) prohibits discrimination against its customers, employees, and applicants for employment on the bases of race, color, national origin, age, disability, sex, gender identity, religion, reprisal, and where applicable, political beliefs, marital status, familial or parental status, sexual orientation, or all or part of an individual's income is derived from any public assistance program, or protected genetic information in employment or in any program or activity conducted or funded by the Department. (Not all prohibited bases will apply to all programs and/or employment activities.)

If you wish to file a Civil Rights program complaint of discrimination, complete the USDA Program Discrimination Complaint Form (PDF), found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Individuals who are deaf, hard of hearing or have speech disabilities and you wish to file either an EEO or program complaint please contact USDA through the Federal Relay Service at (800) 877-8339 or (800) 845-6136 (in Spanish).

Persons with disabilities, who wish to file a program complaint, please see information above on how to contact us by mail directly or by email. If you require alternative means of communication for program information (e.g., Braille, large print, audiotape, etc.) please contact USDA's TARGET Center at (202) 720-2600 (voice and TDD).

Dated: June 5, 2014.
Tony J. Hernandez,
Administrator, Rural Housing Service.

BILLING CODE 3410-XV-P

[FR Doc. 2014-13631 Filed 6-10-14; 8:45 am]

BILLING CODE 3410-XV-C